DEPARTMENT OF STATE

[Public Notice: 7882]

Meeting of Advisory Committee on International Communications and Information Policy

The Department of State's Advisory Committee on International Communications and Information Policy (ACICIP) will hold a public meeting on June 14, 2012 from 1:30 p.m. to 4:30 p.m. in Room 647 of Annex Building 44 of the U.S. Department of State. The State Annex 44 Building is located at 301 Fourth Street SW., Washington, DC 20547.

The committee provides a formal channel for regular consultation and coordination on major economic, social and legal issues and problems in international communications and information policy, especially as these issues and problems involve users of information and communications services, providers of such services, technology research and development, foreign industrial and regulatory policy, the activities of international organizations with regard to communications and information, and developing country issues.

The meeting will be led by ACICIP Chair Mr. Thomas Wheeler of Core Capital Partners and Ambassador Philip L. Verveer, U.S. Coordinator for International Communications and Information Policy. The meeting's agenda will include discussions pertaining to various upcoming international telecommunications meetings and conferences, as well as bilateral and multilateral meetings that have taken place recently. In addition, the Committee will discuss key issues of importance to U.S. communications policy interests, including: recent private sector advisory efforts focused on the information and communications technology (ICT) aspects of international disaster response; recent public-private efforts to provide training to international communications professionals and regulators from the developing world; and human rights and economic issues related to the Internet.

Members of the public may submit suggestions and comments to the ACICIP. Comments concerning topics to be addressed in the agenda should be received by the ACICIP Executive Secretary (contact information below) at least ten working days prior to the date of the meeting. All comments must be submitted in written form and should not exceed one page. Resource limitations preclude acknowledging or replying to submissions.

While the meeting is open to the public, admittance to the building is only by means of a pre-clearance. For placement on the pre-clearance list, please submit the following information no later than 5 p.m. on Wednesday, June 6, 2012. (Please note that this information is not retained by the ACICIP Executive Secretary and must therefore be re-submitted for each ACICIP meeting):

I. State That You Are Requesting Pre-Clearance to a Meeting

II. Provide the Following Information

1. Name of meeting and its date and time

2. Visitor's full name

3. Visitor's organization/company affiliation

4. Acceptable forms of identification for entry into the building include:

• U.S. driver's license with photo

• Passport

• U.S. government agency ID

5. Whether the visitor has a need for reasonable accommodation. Such requests received after June 4, 2012, might not be possible to fulfill.

Send the above information to Joseph Burton by fax (202) 647-7407 or email BurtonKJ@state.gov.

Please note that registrations will be accepted to the capacity of the meeting room.

All visitors for this meeting must use the main entrance and show a valid ID to gain admittance. Non-U.S. Government attendees must be escorted by Department of State personnel at all times when in the building.

For further information, please contact Joseph Burton, Executive Secretary of the Committee, at (202) 647-5231 or BurtonKJ@state.gov.

General information about ACICIP and the mission of International Communications and Information Policy is available at: http://www.state.gov/e/eb/adcom/acicip/index.htm.

Dated: May 7, 2012.
Joseph Burton,
ACICIP Executive Secretary, Department of State.

[FR Doc. 2012-11756 Filed 5-14-12; 8:45 am]

BILLING CODE 4710-07-P